DEPARTMENT OF JUSTICE

Notice of Lodging of Consent Decree Under the Comprehensive Environmental Response, Compensation, and Liability Act

Under 28 CFR 50.7, notice is hereby given that, for a period of 30 days, the United States will receive public comments on a proposed Consent Decree (“Decree”) in United States v. City of New Orleans, et al., Civil Action No. 02-3618, Section “E”, which was lodged with the United States District Court for the Eastern District of Louisiana on July 16, 2009.

In this action the United States, on behalf of the United States Environmental Protection Agency (“EPA”), sought to recover response costs from certain parties. EPA incurred such costs in response to releases and threatened releases of hazardous substances from the Agriculture Street Landfill located in New Orleans, Louisiana. The proposed Consent Decree resolves the United States' claims against Delta By-Products, Inc., Edward Levy Metals, Inc., and counter-claims against the United States in this matter.

The Department of Justice will receive, for a period of thirty (30) days from the date of this publication, comments relating to the Decree. Comments should be addressed to the Assistant Attorney General, Environment and Natural Resources Division, and either e-mailed to pubcomment-ees.enrd@usdoj.gov or mailed to P.O. Box 7611, U.S. Department of Justice, Washington, DC 20044-7611, and should refer to United States v. City of New Orleans, et al., D.J. Ref. 90-11-3-1638/2.

The Consent Decree may be examined at the Office of the United States Attorney, Eastern District of Louisiana, 500 Poydras Street, Suite 210, New Orleans, Louisiana 70130, and at the offices of EPA, Region 6, 1445 Ross Ave., Dallas, TX 75202-2733. The Decree may be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.00 (25 cents per page reproduction cost) payable to the U.S. Treasury or, if by e-mail or fax, forward a check in that amount to the Consent Decree Library at the stated address.

Maureen Katz,
Assistant Chief, Environmental Enforcement Section, Environment and Natural Resources Division.

[FR Doc. E9-18463 Filed 7-31-09; 8:45 am]

BILLING CODE 4410-15-P